DEPARTMENT OF TRANSPORTATION

Office of the Secretary

[Docket No. DOT-OST-2019-0167]

Rural Opportunities To Use Transportation for Economic Success: Request for Information

AGENCY: Office of the Secretary, Department of Transportation (DOT).

ACTION: Request for information (RFI); extension of comment period.

SUMMARY: The Department of Transportation (DOT) extends the comment period for its November 27, 2019 request for information (RFI) on unmet transportation infrastructure needs in rural transportation, barriers that rural communities face in addressing these needs, stakeholders' experiences with applying to and using DOT discretionary grant and credit programs, and opportunities for DOT to improve its services and technical assistance to rural communities in relation to these grant and credit programs. The Department believes it is appropriate to extend the comment period to provide interested parties additional time to submit their responses to the RFI. Therefore, the Department extends the deadline for the submission of comments until January 27, 2020.

DATES: The comment period for the RFI published November 27, 2019, at 84 FR 65459, is extended to January 27, 2020. DOT will consider comments filed after this date to the extent practicable.

ADDRESSES: Comments should refer to the docket number above and be submitted by one of the following methods:

• Electronic Submission: Go to http://www.regulations.gov. Search by using the docket number (provided above). Follow the instructions for submitting comments on the electronic docket site.

• Mail: Docket Management Facility, U.S. Department of Transportation, 1200 New Jersey Avenue SE, West Building Ground Floor, Room W12-140, Washington, DC 20590-0001.

• Hand Delivery or Courier: 1200 New Jersey Avenue SE, West Building Ground Floor, Room W12-140, Washington, DC, between 9 a.m. and 5 p.m. ET, Monday through Friday, except Federal Holidays.

Instructions: All submissions must include the agency name and docket numbers.

Note: All comments received, including any personal information, will be posted without change to the docket and will be accessible to the public at http://www.regulations.gov. You should not include information in your comment that you do not want to be made public. Input submitted online via www.regulations.gov is not immediately posted to the site. It may take several business days before your submission is posted.

FOR FURTHER INFORMATION CONTACT: Visit http://www.transportation.gov/rural, or contact Robert Hyman at rural@dot.gov or 202-366-5843. If you have questions on viewing or submitting material to the docket, contact Docket Services, telephone (202) 366-9826.

SUPPLEMENTARY INFORMATION:

Background

The November RFI requested information directly from the public and other stakeholders to inform the development and implementation of the Rural Opportunities to Use Transportation for Economic Success (ROUTES) initiative. DOT seeks comments that illustrate rural communities' needs and experiences with transportation infrastructure, including the condition of that infrastructure, its effect on safety, and how its use affects the community. This includes comments and data pertaining to current unmet needs in rural transportation, barriers rural communities face in addressing these transportation needs, stakeholders' experiences with applying to and using DOT discretionary grant and credit programs, and opportunities for the DOT to improve its services and technical assistance to rural communities in relation to these grant and credit programs, within the limits of statutory requirements.

The comment period for the RFI was set at 30 days, ending on December 27, 2019. In consideration of holiday schedules that may have impacted commenter's ability to prepare comments during this period and in the interest of receiving a greater number of comments, DOT extends the public comment period until January 27, 2020.

Public Comment

DOT invites comments by all those interested in the Rural Opportunities to Use Transportation for Economic Success (ROUTES) initiative. Comments may be submitted and viewed at Docket Number DOT-OST-2019-0167 at http://www.regulations.gov, or at the address given above under ADDRESSES. Comments must be received on or before January 27, 2020 to receive full consideration by DOT. DOT will consider comments filed after this date to the extent practicable. After that date, comments will continue to be available for viewing by the public.

Issued in Washington, DC, on December 23, 2019, under authority delegated at 49 U.S.C. 1.25a.
Joel Szabat,
Acting Under Secretary of Transportation for Policy.

[FR Doc. 2019-28250 Filed 12-30-19; 8:45 am]

BILLING CODE 4910-9X-P